ENVIRONMENTAL PROTECTION AGENCY

[EPA-HQ-OPP-2025-2863; FRL-5992-04-OCSPP]

Pesticides; Draft Guidance for Pesticide Registrants on Notifications, Non-Notifications, and Minor Formulation Amendments; Extension of Comment Period

AGENCY: Environmental Protection Agency (EPA).

ACTION: Notice; extension of comment period.

SUMMARY: EPA issued a notice in the Federal Register of January 5, 2026, concerning a draft Pesticide Registration Notice (PR Notice) entitled “Pesticide Registration (PR) Notice 2026-NEW: Notifications, Non-Notifications, and Minor Formulation Amendments.” The draft PR Notice adds several new minor modifications, moves some existing minor modifications to a more streamlined process (e.g., from notification to non-notification), and provides more details in the minor modification and process descriptions to enhance clarity. EPA received a request to extend the comment period by 30 days due to the scope and significance of the proposed changes and is granting the request. The additional time will allow impacted stakeholders to provide robust and meaningful comments.

DATES: The comment period for the document published on January 5, 2026, at 91 FR 271 (FRL-5992-03-OCSPP) is extended. Comments must be received on or before March 23, 2026.

ADDRESSES: Follow the detailed instructions provided under ADDRESSES in the Federal Register document of January 5, 2026 (91 FR 271 (FRL-5992-03-OCSPP).

FOR FURTHER INFORMATION CONTACT: Alexandra Boukedes, Registration Division (7505T), Office of Pesticide Programs, Environmental Protection Agency, 1200 Pennsylvania Ave. NW, Washington, DC 20460-0001; telephone number: (202) 566-1511; email address: boukedes.alexandra@epa.gov.

SUPPLEMENTARY INFORMATION: To give stakeholders most likely impacted by the proposed changes additional time to review materials and provide meaningful comments, this document extends the comment period established in the Federal Register document of January 5, 2026, at 91 FR 271 (FRL-5992-03-OCSPP) for 30 days, from February 19, 2026, to March 23, 2026. More information on the action can be found in the Federal Register of January 5, 2026.

To submit comments or access the docket, please follow the instructions provided under ADDRESSES. If you have questions, consult the person listed under FOR FURTHER INFORMATION CONTACT.

Authority: 7 U.S.C. 136 et seq.

Dated: February 6, 2026.
Douglas M. Troutman,
Assistant Administrator, Office of Chemical Safety and Pollution Prevention.

[FR Doc. 2026-02659 Filed 2-10-26; 8:45 am]

BILLING CODE 6560-50-P